DEPARTMENT OF THE TREASURY

Internal Revenue Service

26 CFR Part 1

[TD 9192]

RIN 1545-BC38; RIN 1545-BC74; RIN 1545-BC95

Guidance Under Section 1502; Application of Section 108 to Members of a Consolidated Group; Correction

AGENCY: Internal Revenue Service (IRS), Treasury.

ACTION: Correction to final regulations.

SUMMARY: This document corrects final regulations, (TD 9192) that were published in the Federal Register on Tuesday, March 22, 2005 (70 FR 14395), that govern the application of section 108 when a member of a consolidated group realizes discharge of indebtedness income.

DATES: This correction is effective on March 22, 2005.

FOR FURTHER INFORMATION CONTACT: Amber Cook, (202) 622-7530 (not a toll-free number).

SUPPLEMENTARY INFORMATION:

Background

The final regulations, temporary regulations, and removal of temporary regulations (TD 9192) that is the subject of this correction is under section 1502 of the Internal Revenue Code.

Need for Correction

As published, (TD 9192) contains an error that may prove to be misleading and is in need of clarification.

Correction of Publication

Accordingly, the publication of the final regulations, temporary regulations, and removal of temporary regulations (TD 9192) that were the subject of FR. Doc. 05-5528, are corrected as follows:

PART 1—INCOME TAXES

1. The authority citation for 26 CFR part 1 continues to read as follows:

Authority: 26 U.S.C. 7805, unless otherwise noted. Section 1.1502-11 also issued under 26 U.S.C. 1502.

§ 1.1502-11 [Corrected]

2. In § 1.1502-11, paragraph (c)(5), Example 3, (ii)(E), remove the words “take into account its $80 of excluded COD.” and add in their place the words “take into account its $80 of excluded COD income.”.

Cynthia E. Grigsby,
Acting Chief, Publications and Regulations Branch, Legal Processing Division, Associate Chief Counsel, (Procedures and Administration).

[FR Doc. 05-7636 Filed 4-15-05; 8:45 am]

BILLING CODE 4830-01-P